DEPARTMENT OF HOUSING AND URBAN DEVELOPMENT

[Docket No. FR-5311-N-01]

Notice of Availability: Notice of Funding Availability (NOFA) for American Recovery and Reinvestment Act Capital Fund Recovery Competition Grants

AGENCY: Office of the Assistant Secretary for Public and Indian Housing, HUD.

ACTION: Notice.

SUMMARY: Through this notice, HUD announces the availability on its Web site of the application information, eligibility requirements, review and selection procedures, and other program requirements governing the availability of $995 million in Capital Fund Recovery Competition Grants under the American Recovery and Reinvestment Act of 2009. The assistance is intended to preserve and create jobs, promote economic recovery, assist those impacted by the recession, and invest in transportation, environment, and infrastructure that will provide long-term economic benefits. The notice establishing the program requirements is available on the HUD Web site at: http://www.hud.gov/recovery.

FOR FURTHER INFORMATION CONTACT: If you have a question or need a clarification, you may contact the Office of Capital Improvements by sending an email message to PIHOCI@hud.gov. Please see http://www.hud.gov/offices/pih/programs/ph/capfund/ocir.cfm, which can be accessed from http://www.hud.gov/recovery/, for additional information.

Dated: May 5, 2009.
Paula O. Blunt,
General Deputy Assistant Secretary for Public and Indian Housing.

[FR Doc. E9-11162 Filed 5-8-09; 4:15 pm]

BILLING CODE 4210-67-P